DEPARTMENT OF AGRICULTURE

Farm Service Agency

7 CFR Part 723

RIN 0560-AG68

Sale and Purchase of Flue-Cured Tobacco Across County Lines (Florida and Georgia)

AGENCY: Farm Service Agency, USDA.

ACTION: Final rule.

SUMMARY: This rule amends regulations that govern tobacco quotas and allotments to allow the transfer by sale of a flue-cured quota in either Georgia or Florida to another farm, for production on that farm, in another county in that State. The Farm Service Agency (the Agency) held a referendum of producers to determine their opinion on the sale of allotments across county lines. Flue-cured producers in Georgia and Florida voted to permit transfers across county lines and this rule implements those results.

DATES: Effective June 18, 2002.

FOR FURTHER INFORMATION CONTACT: Ann Wortham, Agricultural Program Specialist, Tobacco Branch, FSA, USDA, STOP 0514, 1400 Independence Avenue, SW, Washington, DC 20250-0540: Telephone—(202) 720-2715; electronic mail: ann_wortham@wdc.usda.gov.

SUPPLEMENTARY INFORMATION:

Executive Order 12866

This final rule is issued in conformance with Executive Order 12866. It was not determined to be significant or economically significant by the Office of Management and Budget.

Regulatory Flexibility Act

The Regulatory Flexibility Act is not applicable to this rule because the United States Department of Agriculture (USDA) is not required by 5 U.S.C. 553 or any other law to publish a notice of proposed rulemaking on the substance of this rule.

Environmental Evaluation

It has been determined by an environmental evaluation that this action will have no significant impact on the quality of the human environment. Therefore, neither an environmental assessment nor an Environmental Impact Statement is needed.

Executive Order 12372

This program is not subject to the provisions of Executive Order 12372, which require consultation with State and local officials. See the notice related to 7 CFR part 3015, subpart V, published at 48 FR 29115 (June 24, 1983).

Unfunded Mandates

This rule contains no Federal mandates under the provisions of Title II of the Unfunded Mandates Reform Act of 1995 (UMRA) for State, local and tribal governments or the private sector. Therefore this rule is not subject to the requirements of sections 202 and 205 of the UMRA.

Federal Assistance Program

The title and number of the Federal assistance program, as found in the Catalogue of Federal Domestic Assistance, to which this rule applies is as follows:

10.051—Commodity Loans and Loan Deficiency Payments.

Paperwork Reduction Act

This rule does not impact the information collection requirements of 7 CFR part 723 approved by OMB and assigned OMB control number 0560-0058.

Discussion of Final Rule

This Final Rule will amend 7 CFR part 723 by implementing requirements of the Agriculture, Rural Development, Food and Drug Administration, and Related Agencies Appropriations Act, 2000, Pub. L. 106-78 (the Act), that allow transfer by sale of flue-cured tobacco allotment or quota across county lines if a majority of eligible producers so vote in a referendum.

Current regulations limit the Agency to approving only requests for sale of flue-cured tobacco from one farm to another farm located within the same county. The Act, however, permitted a transfer across county lines if a sufficient number of voting producers who own or grow the tobacco wanted it. The Act directed the Secretary to conduct a referendum within any State in which at least 25 percent of the active flue-cured producers in that State petitioned the Secretary to do so. Thus, the producers themselves would determine if the regulations would permit the sale of flue-cured tobacco across county lines.

More than the required 25 percent of active flue-cured tobacco producers in both Florida and Georgia requested a referendum. The Agency conducted the referenda in October 2001 and a majority of the eligible voters who voted in the referenda approved permitting the sale of flue-cured tobacco quota across county lines.

This rule is not published for notice and comment because it implements statutory and regulatory provisions which are binding on the Agency. Since the Agency does not have discretion in this matter, public comment would not be able to affect the provisions of the rule. Therefore the rule is published as final and effective upon publication.

List of Subjects in 7 CFR Part 723

Allotment, Quota, Transfer.

PART 723—TOBACCO

1. The authority citation for 7 CFR part 723 continues to read as follows:

Authority: 7 U.S.C. 1301, 1311-1314, 1314-1, 1314b, 1314b-1, 1314c, 1314d, 1314e, 1314f, 1314i, 1315, 1316, 1362, 1363, 1372-75, 1421, 1445-1, and 1445-2.

2. Section 723.216 is amended by revising paragraph (f)(1) to read as follows:

§ 723.216 Transfer of tobacco acreage allotment or marketing quota by sale, lease, or owner.

* * * * *

(f) * * *

(1) Location of buying and selling farms. Marketing quota transferred by sale must be to a farm administratively located within the same county. However, beginning with the 2002 and subsequent crops, flue-cured tobacco owners in the States of Florida and Georgia shall be permitted to sell flue-cured tobacco marketing quota to any other farm in their respective State if all other conditions for such a sale are met.

* * * * *

Signed at Washington, DC, on May 22, 2002.
James R. Little,
Administrator, Farm Service Agency and Executive Vice President, Commodity Credit Corporation.

[FR Doc. 02-15248 Filed 6-17-02; 8:45 am]

BILLING CODE 3410-05-P